DEPARTMENT OF THE TREASURY

Office of Thrift Supervision

Proposed Agency Information Collection Activities; Comment Request—Reporting for Changes to Federal Deposit Insurance Levels on the Thrift Financial Report: Schedule DI

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. Today, the Office of Thrift Supervision within the Department of the Treasury solicits comments on proposed changes to the Thrift Financial Report (TFR): Schedule DI—Consolidated Deposit Information. The changes are in response to the increased levels of deposit insurance for retirement accounts provided by the Federal Deposit Insurance Corporation (“FDIC”) Board of Directors on March 14, 2006, in final rules effective April 1, 2006, implementing certain provisions of the Federal Deposit Insurance Reform Act of 2005, (“Reform Act”) (Pub. L. 109-171).

The proposed changes to the TFR are to become effective with the September 30, 2006, report.

At the end of the comment period, the comments and recommendations received will be analyzed to determine the extent to which OTS should modify the proposed revisions prior to giving its final approval. OTS will then submit the revisions to the Office of Management and Budget (OMB) for review and approval.

DATES: Submit written comments on or before June 27, 2006.

ADDRESSES: Send comments to Information Collection Comments, Chief Counsel's Office, Office of Thrift Supervision, 1700 G Street, NW., Washington, DC 20552; send facsimile transmissions to (202) 906-6518; send e-mails to infocollection.comments@ots.treas.gov; or hand deliver comments to the Guard's Desk, east lobby entrance, 1700 G Street, NW., on business days between 9 a.m. and 4 p.m. All comments should refer to “TFR Revisions—September 2006, OMB No. 1550-0023.” OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You can access sample copies of the proposed September 2006 TFR form on OTS's Web site at http://www.ots.treas.gov or you may request them by electronic mail from tfr.instructions@ots.treas.gov. You can request additional information about this proposed information collection from James Caton, Director, Financial Monitoring and Analysis Division, (202) 906-5680, Office of Thrift Supervision, 1700 G Street, NW., Washington, DC 20552.

SUPPLEMENTARY INFORMATION: OTS may not conduct or sponsor an information collection, and respondents are not required to respond to an information collection, unless the information collection displays a currently valid OMB control number.

In this notice, OTS is soliciting comments concerning the following information collection.

Title: Thrift Financial Report.

OMB Number: 1550-0023.

Form Number: OTS 1313.

Abstract: All OTS-regulated savings associations must comply with the information collections described in this notice. OTS collects this information each calendar quarter, or less frequently if so stated. OTS uses this information to monitor the condition, performance, and risk profile of individual institutions and the savings association industry as a whole. Except for selected items, these information collections are not given confidential treatment.

Current Action: On March 14, 2006, the FDIC Board of Directors approved final rules pursuant to the Reform Act that will raise the deposit insurance coverage on certain retirement accounts at a bank or savings institution to $250,000 from $100,000. The increase, which became effective on April 1, 2006, is the result of a new law boosting federal deposit insurance coverage for the first time in more than 25 years. The basic insurance coverage for other deposit accounts, however, will remain at $100,000.

Under the FDIC's new rules, up to $250,000 in deposit insurance will be provided to a depositor with money in a variety of retirement accounts, primarily traditional and Roth IRAs (Individual Retirement Accounts), at one insured institution. Other types of accounts included under the new deposit insurance limit are self-directed Keogh accounts, “457 Plan” accounts for state government employees, and employer-sponsored “defined contribution plan” accounts that are self-directed, which are primarily 401(k) accounts. In general, self-directed means the consumer chooses how and where the money is deposited.

In addition, the IRAs and other retirement accounts that will be protected under the new rules to $250,000 are insured separately from other accounts at the same institution that will continue to be insured up to at least $100,000. Additional information about deposit insurance is available at the FDIC's Web site, http://www.fdic.gov.

The new law also established a method by which the FDIC would consider an increase in the insurance limits on all deposit accounts (including retirement accounts) in the future, but only every five years starting in 2011. Any such increase would be based, in part, on inflation. Otherwise, accounts will continue to be insured as described above.

The new law also merged the Bank Insurance Fund and the Savings Association Insurance Fund into a new Deposit Insurance Fund.

As a result of these changes in deposit insurance for retirement accounts held at FDIC-insured depository institutions, OTS considered a range of potential information needs and identified those additions to the TFR that are believed to be most critical and relevant to OTS as it seeks to fulfill its supervisory responsibilities. At the same time, OTS identified certain existing TFR data that are no longer relevant or useful to warrant their continued collection. OTS believes that the reporting burden that would result from the addition to the TFR of the new items discussed in this proposal would be fully offset by the proposed elimination of a limited number of other TFR items, thereby resulting in no net increase in reporting burden. Nevertheless, when viewing these proposed revisions to the TFR within a larger context, they are intended to maintain the effectiveness of the on- and off-site supervision activities of the OTS, which should help to control the overall regulatory burden on institutions.

OTS is requesting comment on the following proposed revisions to the TFR Schedule DI—Consolidated Deposit Information, which would take effect as of September 30, 2006. This proposal would eliminate four line items from the TFR, revise four existing items, and add four new data items to the TFR. For each of the proposed revisions of existing items or proposed new items, OTS is particularly interested in comments from institutions on whether the information that is proposed to be collected is readily available from existing institution records. OTS also invites comment on whether there are particular proposed revisions for which the new data would be of limited relevance for purposes of assessing risks in a specific segment of the savings association industry. In such cases, comments are requested on what criteria (e.g., an asset size threshold or some other measure) should be established for identifying the specific segment of the savings association industry that should be required to report the proposed new information. Finally, OTS seeks comment on whether, for a particular proposed revision, there is an alternative set of information that could satisfy OTS data needs in that area and be less burdensome for institutions to report than the new or revised items that OTS has proposed. OTS will consider all of the comments it receives as it formulates a final set of revisions to the TFR for implementation in September 2006.

A. Burden-Reducing Revisions

1. Eliminating DI200, IRA/Keogh Accounts;

2. Eliminating DI740, Total Deposits Purchased or Acquired from FDIC-Insured Institutions During Quarter;

3. Eliminating DI750, Amount of Purchased or Acquired Deposits Reported In DI740 Attributable to a Secondary Fund; and

4. Eliminating DI760, Total Deposits Sold or Transferred During Quarter.

B. Revisions of Existing Items

1. Revising the instructions to DI120, Deposits with Balances of $100,000 or Less, to exclude retirement deposits covered under the new insurance limit;

2. Revising the instructions to DI130, Deposits with Balances Greater Than $100,000, to exclude retirement deposits covered under the new insurance limit;

3. Revising the instructions to DI150, Number of Deposit Accounts with Balances of $100,000 or Less, to exclude retirement accounts covered under the new insurance limit; and

4. Revising the instructions to DI160, Number of Deposit Accounts with Balances Greater Than $100,000, to exclude retirement accounts covered under the new insurance limit.

C. New items

1. Adding a line, DI170, Retirement Deposits with Balances of $250,000 or Less;

2. Adding a line, DI175, Retirement Deposits with Balances Greater Than $250,000;

3. Adding a line, DI180, Number of Retirement Deposit Accounts with Balances of $250,000 or Less; and

4. Adding a line, DI185, Number of Retirement Deposit Accounts with Balances Greater Than $250,000.

The specific wording of the captions for the new and revised TFR items discussed in this proposal and the numbering of these items in the report should be regarded as preliminary.

Discussion of Proposed Revisions

A. Burden-Reducing Revisions

1. IRA/Keogh Accounts Included in Deposits and Escrows

OTS proposes to eliminate TFR line DI200, IRA/Keogh Accounts. The new lines proposed below will include the data now collected in line DI200.

The following three line items proposed for elimination were reported for the first quarter in which an institution acquired “Oakar” deposits, or deposits attributable to a secondary Federal deposit insurance fund, and in any quarter that an institution purchased or sold deposits.

2. Total Deposits Purchased or Acquired from FDIC-Insured Institutions During Quarter

OTS proposes to eliminate TFR line DI740, Total Deposits Purchased or Acquired from FDIC-Insured Institutions During Quarter. Passage of the Reform Act renders this data collection obsolete. In the March 2006 “Financial Reporting Bulletin”, OTS informed all thrifts to cease reporting these data effective with the March 31, 2006, TFR.

3. Amount of Purchased or Acquired Deposits Reported In DI740 Attributable to a Secondary Fund

OTS proposes to eliminate TFR line DI750, Amount of Purchased or Acquired Deposits Reported In DI740 Attributable to a Secondary Fund. Passage of the Reform Act renders this data collection obsolete. In the March 2006 “Financial Reporting Bulletin”, OTS informed all thrifts to cease reporting these data effective with the March 31, 2006, TFR.

4. Total Deposits Sold or Transferred During Quarter

OTS proposes to eliminate TFR line DI760, Total Deposits Sold or Transferred During Quarter. Passage of the Reform Act renders this data collection obsolete. In the March 2006 “Financial Reporting Bulletin”, OTS informed all thrifts to cease reporting these data effective with the March 31, 2006, TFR.

B. Revisions of Existing Items

The instructions for the following four TFR lines would be revised under this proposal.

1. Deposits with Balances of $100,000 or Less

OTS proposes to revise the reporting instructions for line DI120, Deposits with Balances of $100,000 or Less. The instructions would be revised to exclude reporting of retirement accounts eligible under the higher deposit insurance limit.

2. Deposits with Balances Greater Than $100,000

OTS proposes to revise the reporting instructions for line DI130, Deposits with Balances Greater Than $100,000. The instructions would be revised to exclude reporting of retirement accounts eligible under the higher deposit insurance limit.

3. Number of Deposit Accounts with Balances of $100,000 or Less

OTS proposes to revise the reporting instructions for line DI150, Number of Deposit Accounts with Balances of $100,000 or Less. The instructions would be revised to exclude reporting of retirement accounts eligible under the higher deposit insurance limit.

4. DI160, Number of Deposit Accounts with Balances Greater Than $100,000

OTS proposes to revise the reporting instructions for line DI160, Number of Deposit Accounts with Balances Greater Than $100,000. The instructions would be revised to exclude reporting of retirement accounts eligible under the higher deposit insurance limit.

C. New Items

OTS proposes to add the following new line items.

1. Retirement Deposits with Balances of $250,000 or Less

OTS proposes to add line DI170, Retirement Deposits with Balances of $250,000 or Less. Deposits in retirement accounts covered under the higher deposit insurance limit would be reported in this line.

2. Retirement Deposits with Balances Greater Than $250,000

OTS proposes to add line DI175, Retirement Deposits with Balances Greater Than $250,000. Deposits in retirement accounts covered under the higher deposit insurance limit would be reported in this line.

3. Number of Retirement Deposit Accounts with Balances of $250,000 or Less

OTS proposes to add line DI180, Number of Retirement Deposit Accounts with Balances of $250,000 or Less. Deposits in retirement accounts covered under the higher deposit insurance limit would be reported in this line.

4. Number of Retirement Deposit Accounts with Balances Greater Than $250,000

OTS proposes to add line DI185, Number of Retirement Deposit Accounts with Balances Greater Than $250,000. Deposits in retirement accounts covered under the higher deposit insurance limit would be reported in this line.

Statutory Requirement: 12 U.S.C. 1464(v) imposes reporting requirements for savings associations.

Type of Review: Revision of currently approved collections.

Affected Public: Business or For Profit.

Estimated Number of Respondents and Recordkeepers: 858.

Estimated Burden Hours per Respondent: 36.4 hours average for quarterly schedules and 1.9 hours average for schedules required only annually plus recordkeeping of an average of one hour per quarter.

Estimated Frequency of Response: Quarterly.

Estimated Total Annual Burden: 129,987 hours.

OTS is proposing to revise the TFR, which is currently an approved collection of information. The effect of the proposed revisions to the TFR requirements on reporting burden will vary from institution to institution depending, in some cases, on the institution's asset size and, in other cases, on its involvement with the types of activities or transactions to which the proposed changes apply. OTS estimates that the implementation of these reporting revisions will not result in an increase in the current reporting burden imposed by the TFR on all savings associations.

Request for Comments: As part of the approval process, we invite comments addressing one or more of the following points:

a. Whether the proposed revisions to the TFR collections of information are necessary for the proper performance of the agency's functions, including whether the information has practical utility;

b. The accuracy of the agency's estimate of the burden of the collection of information;

c. Ways to enhance the quality, utility, and clarity of the information to be collected;

d. Ways to minimize the burden of information collections on respondents, including through the use of automated collection techniques, the Internet, or other forms of information technology; and

e. Estimates of capital or start up costs and costs of operation, maintenance, and purchase of services to provide information.

OTS will summarize the comments received and include them in the request for OMB approval. All comments will become a matter of public record.

Clearance Officer: Marilyn K. Burton, (202) 906-6467, Office of Thrift Supervision, 1700 G Street, NW., Washington, DC 20552.

OMB Reviewer: OTS Desk Officer, Fax: (202) 395-6974, Office of Management and Budget, Room 10235, New Executive Office Building, Washington, DC 20503.

Dated: April 25, 2006.
Deborah Dakin,
Senior Deputy Chief Counsel, Regulations and Legislation Division.

[FR Doc. E6-6452 Filed 4-27-06; 8:45 am]

BILLING CODE 6720-01-P